DEPARTMENT OF COMMERCE

National Oceanic and Atmospheric Administration

RIN 0648-XA788

North Pacific Fishery Management Council (NPFMC); Public Meetings

AGENCY: National Marine Fisheries Service (NMFS), National Oceanic and Atmospheric Administration (NOAA), Commerce.

ACTION: Notice of public meetings.

SUMMARY: The North Pacific Fishery Management Council's (Council) Gulf of Alaska (GOA) and Bering Sea/Aleutian Islands (BS/AI) Groundfish Plan Teams will meet in Seattle.

DATES: November 14-18, 2011. The meetings will begin at 9 a.m., Monday, November 14, and continue through Friday, November 18, 2011.

ADDRESSES: The meetings will be held at the Alaska Fisheries Science Center, 7600 Sand Point Way, NE., Building 4, Observer Training Room (GOA Plan Team) and Traynor Room (BS/AI Plan Team), Seattle, WA.

Council address: North Pacific Fishery Management Council, 605 W. 4th Ave., Suite 306, Anchorage, AK 99501-2252.

FOR FURTHER INFORMATION CONTACT: Jane DiCosimo or Diana Stram, NPFMC; telephone: (907) 271-2809.

SUPPLEMENTARY INFORMATION: The Plan Teams will compile and review the annual Groundfish Stock Assessment and Fishery Evaluation Report (SAFE), including the Economic Report, the Ecosystems Consideration Chapter, the stock assessments for BSAI and GOA groundfish, and recommend final groundfish catch specifications for 2012/13.

The Agenda is subject to change, and the latest version will be posted at http://www.alaskafisheries.noaa.gov/npfmc/.

Special Accommodations

These meetings are physically accessible to people with disabilities. Requests for sign language interpretation or other auxiliary aids should be directed to Gail Bendixen, (907) 271-2809, at least 5 working days prior to the meeting date.

Dated: October 20, 2011.
Tracey L. Thompson,
Acting Director, Office of Sustainable Fisheries, National Marine Fisheries Service.

[FR Doc. 2011-27630 Filed 10-25-11; 8:45 am]

BILLING CODE 3510-22-P